DEPARTMENT OF STATE

[Public Notice 4025]

Bureau of Educational and Cultural Affairs; 60-Day Notice of Proposed Information Collection: Form DS-3036, Exchange Visitor Program Application and Form DS-3037, Update of Information on Exchange Visitor Program Sponsor; OMB Control Number 1405-0120

ACTION: Notice.

SUMMARY: The Office of Exchange Coordination and Designation, Bureau of Educational and Cultural Affairs; 60-Day Notice of Proposed Information Collection: Exchange Visitor Program Application—Form DS-3036; Update of Information on Exchange Visitor Program Sponsor—Form DS-3037. OMB Approval Number 1405-0120.

Action: The Department of State is seeking Office of Management and Budget (OMB) approval for the information collection described below. The purpose of this notice is to allow 60 days for public comment in the Federal Register preceding submission to OMB. This process is conducted in accordance with the Paperwork Reduction Act of 1995. Comments should be submitted to OMB within 30 days of the publication of this notice. The following summarizes the information collection proposal submitted to OMB:

Type of Request: Comment.

Originating Office: Office of Exchange Coordination and Designation, Bureau of Educational and Cultural Affairs.

Title of Information Collection: Exchange Visitor Program Application—Form DS-3036; Update of Information on Exchange Visitor Program Sponsor—DS-3037.

Frequency: Form DS-3036—Approximately 150 new organizations submit applications to be designated as Exchange Visitor Program sponsors each year. DS-3037—The Department has approximately 1500 currently designated sponsors. It is estimated that each designated organization makes two submissions annually to update information on their Program or to order Form DS-2019, brochures and supplies to administer their Program.

Form Number: Forms DS-3036 and DS-3037.

Respondents: U.S. government, and public and private organizations wishing to become designated sponsors and Department of State designated sponsors.

Estimated Number of Respondents: DS-3036—150; DS-3037—3,000.

Average Hours per Response: DS-3036—20 minutes; DS-3037—8 hours.

Total Estimated Burden: DS-3036—1200 hours; DS-3037—1,000 hours.

Public comments are being solicited to permit the Department to:

—Evaluate whether the proposed information collection is necessary for the proper performance of the functions of the Department, including whether the proposed information collection is necessary for the proper performance of the functions of the Department.

• Evaluate the accuracy of the Department's estimate of the burden of the proposed collection, including the validity of the methodology and assumptions used.

• Enhance the quality, utility, and clarity of the information to be collected.

—Minimize the reporting burden on those who are to respond, including through the use of automated collection techniques or other forms of technology.

FOR FURTHER ADDITIONAL INFORMATION: Copies of the proposed information collection and supporting documents may be obtained from Sally J. Lawrence, Chief, Private Sector Division, Office of Exchange Coordination and Designation, Bureau of Educational and Cultural Affairs, U.S. Department of State, 301 Fourth Street, SW, Room 734, Washington, DC 20547; telephone 202-401-9810. Public comments and questions should be directed to the State Department Desk Officer, Office of Information and Regulatory Affairs, Office of Management and Budget (OMB), Washington, DC 20530, who may be reached on 202-395-3897.

Dated: April 4, 2002.
James D. Whitten,
Executive Director, Bureau of Educational and Cultural Affairs, Department of State.

[FR Doc. 02-13144 Filed 5-23-02; 8:45 am]

BILLING CODE 4710-05-P